DEPARTMENT OF ENERGY

[Docket No. 23-109-LNG]

Southern LNG Company, L.L.C.; Application for Long-Term Authorization To Export Liquefied Natural Gas to Non-Free Trade Agreement Nations

AGENCY: Office of Fossil Energy and Carbon Management, Department of Energy.

ACTION: Notice of application.

SUMMARY: The Office of Fossil Energy and Carbon Management (FECM) of the Department of Energy (DOE) gives notice (Notice) of receipt of an application (Application), filed by Southern LNG Company, L.L.C. (Southern LNG) on September 25, 2023. Southern LNG requests authority to engage in additional long-term, multi-contract exports of domestically produced liquefied natural gas (LNG) from its existing LNG terminal, located in Chatham County, Georgia, and known as the Elba Island Terminal, in a volume equivalent to 28.25 billion cubic feet (Bcf) per year (Bcf/yr) of natural gas, to non-free trade agreement nations. Southern LNG filed the Application under section 3 of the Natural Gas Act (NGA).

DATES: Protests, motions to intervene, or notices of intervention, as applicable, and written comments are to be filed as detailed in the Public Comment Procedures section no later than 4:30 p.m., Eastern time, December 26, 2023.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76), Office of the Assistant General Counsel for Energy Delivery and Resilience, Forrestal Building, Room 6D-033, 1000 Independence Avenue SW, Washington, DC 20585, (202) 586-9793, cassandra.bernstein@hq.doe.gov.

SUPPLEMENTARY INFORMATION: Southern LNG is currently authorized to export domestically-produced LNG in a volume equivalent to 130 Bcf/yr of natural gas ¹ to any countries with which the United States has not entered into a free trade agreement (FTA) requiring national treatment for trade in natural gas and with which trade is not prohibited by U.S. law or policy (non-FTA countries), through December 31, 2050, pursuant to NGA section 3(a).² Southern LNG is authorized to export this LNG from the existing Elba Island Terminal.

¹ S. LNG Co., L.L.C., DOE/FE Order No. 3956, Docket No. 12-100-LNG, Opinion and Order Granting Long-Term, Multi-Contract Authorization to Export Liquefied Natural Gas by Vessel from the Elba Island Terminal in Chatham County, Georgia to Non-Free Trade Agreement Nations (Dec. 16, 2016), amended by DOE/FE Order No. 3956-A, Order Extending Export Term for Authorizations to Free Trade and Non-Free Trade Agreement Nations Through December 31, 2050 (Dec. 30, 2020) (extending the export term through December 31, 2050).

² 15 U.S.C. 717b(a). Southern LNG notes that it is also authorized, in Docket No. 12-54-LNG (Order No. 3106, as amended), to export LNG from the Elba Island Terminal to FTA countries in a volume equivalent to 182.5 Bcf/yr of natural gas. Southern LNG's FTA exports are authorized pursuant to NGA section 3(c), 15 U.S.C. 717b(c), and are not at issue here.

In this Application, filed in Docket No. 23-109-LNG, Southern LNG states that it filed an application in April 2023 with the Federal Energy Regulatory Commission (FERC) for authorization to modify its existing liquefaction facilities and install and operate a new condensate plant and liquid nitrogen vaporizers at the Elba Island Terminal. The modifications would increase the Terminal's authorized maximum LNG production capacity to 158.25 Bcf/yr of natural gas. The requested increase in authorized volume would align Southern LNG's total authorized volume with the additional volume that the Terminal could handle with FERC's approval. Thus, in light of the modifications, Southern LNG asks DOE to authorize the export of an additional 28.25 Bcf/yr of natural gas in the form of LNG from the Elba Island Terminal to non-FTA countries.

Southern LNG seeks the authorization on its own behalf and as agent for other entities who themselves hold title to the LNG. Southern LNG requests the authorization for a term to extend through December 31, 2050.

Additional details can be found in Southern LNG's Application, posted on the DOE website at: https://www.energy.gov/sites/default/files/2023-10/2023%2009%2025%20SLNG%20Non%20FTA%20Long%20Term%20EOP%20Export%20Authorization%20Request.pdf.

DOE Evaluation

In reviewing Southern LNG's Application, DOE will consider any issues required by law or policy. DOE will consider domestic need for the natural gas, as well as any other issues determined to be appropriate, including whether the arrangement is consistent with DOE's policy of promoting competition in the marketplace by allowing commercial parties to freely negotiate their own trade arrangements. As part of this analysis, DOE will consider the study entitled, Macroeconomic Outcomes of Market Determined Levels of U.S. LNG Exports (2018 LNG Export Study),³ and DOE's response to public comments received on that Study.⁴

³ See NERA Economic Consulting, Macroeconomic Outcomes of Market Determined Levels of U.S. LNG Exports (June 7, 2018), www.energy.gov/sites/prod/files/2018/06/f52/Macroeconomic%20LNG%20Export%20Study%202018.pdf.

⁴ U.S. Dep't of Energy, Study on Macroeconomic Outcomes of LNG Exports: Response to Comments Received on Study; Notice of Response to Comments, 83 FR 67251 (Dec. 28, 2018).

Additionally, DOE will consider the following environmental documents:

• Addendum to Environmental Review Documents Concerning Exports of Natural Gas From the United States, 79 FR 48132 (Aug. 15, 2014); ⁵

⁵ The Addendum and related documents are available at www.energy.gov/fecm/addendum-environmental-review-documents-concerning-exports-natural-gas-united-states.

• Life Cycle Greenhouse Gas Perspective on Exporting Liquefied Natural Gas From the United States, 79 FR 32260 (June 4, 2014); ⁶ and

⁶ The 2014 Life Cycle Greenhouse Gas Report is available at www.energy.gov/fecm/life-cycle-greenhouse-gas-perspective-exporting-liquefied-natural-gas-united-states.

• Life Cycle Greenhouse Gas Perspective on Exporting Liquefied Natural Gas From the United States: 2019 Update, 84 FR 49278 (Sept. 19, 2019), and DOE's response to public comments received on that study.⁷

⁷ U.S. Dep't of Energy, Life Cycle Greenhouse Gas Perspective on Exporting Liquefied Natural Gas from the United States: 2019 Update—Response to Comments, 85 FR 72 (Jan. 2, 2020). The 2019 Update and related documents are available at https://fossil.energy.gov/app/docketindex/docket/index/21.

Parties that may oppose this Application should address these issues and documents in their comments and/or protests, as well as other issues deemed relevant to the Application.

The National Environmental Policy Act (NEPA), 42 U.S.C. 4321 et seq., requires DOE to give appropriate consideration to the environmental effects of its proposed decisions. No final decision will be issued in this proceeding until DOE has met its NEPA responsibilities.

Public Comment Procedures

In response to this Notice, any person may file a protest, comments, or a motion to intervene or notice of intervention, as applicable. Interested parties will be provided 60 days from the date of publication of this Notice in which to submit comments, protests, motions to intervene, or notices of intervention.

Any person wishing to become a party to this proceeding evaluating Southern LNG's Application must file a motion to intervene or notice of intervention. The filing of comments or a protest with respect to the Application will not serve to make the commenter or protestant a party to the proceeding, although protests and comments received from persons who are not parties will be considered in determining the appropriate action to be taken on the Application. All protests, comments, motions to intervene, or notices of intervention must meet the requirements specified by the regulations in 10 CFR part 590, including the service requirements.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 23-109-LNG” or “Southern LNG Application” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Notice, and any filed protests, motions to intervene, notices of intervention, and comments will also be available electronically on the DOE website at www.energy.gov/fecm/regulation.

A decisional record on the Application will be developed through responses to this Notice by parties, including the parties' written comments and replies thereto. Additional procedures will be used as necessary to achieve a complete understanding of the facts and issues. If an additional procedure is scheduled, notice will be provided to all parties. If no party requests additional procedures, a final Order may be issued based on the official record, including the Application and responses filed by parties pursuant to this Notice, in accordance with 10 CFR 590.316.

Signed in Washington, DC, on October 18, 2023.
Amy Sweeney,
Director, Office of Regulation, Analysis, and Engagement, Office of Resource Sustainability.

[FR Doc. 2023-23411 Filed 10-23-23; 8:45 am]

BILLING CODE 6450-01-P